DEPARTMENT OF COMMERCE

International Trade Administration

[A-427-818]

Notice of Amended Final Results of Antidumping Duty Administrative Review: Low Enriched Uranium From France

AGENCY: Import Administration, International Trade Administration, Department of Commerce.

ACTION: Notice of amended final results of antidumping duty administrative review.

SUMMARY: On August 3, 2004, the Department of Commerce (the Department) published the final results of its first administrative review of the antidumping duty order on low enriched uranium (LEU) from France for the period July 13, 2001, through January 31, 2003. See Notice of Final Results of Antidumping Duty Administrative Review: Low Enriched Uranium from France, 69 FR 46501 (August 3, 2004). On August 2, 2004, in accordance with 19 CFR 351.224(c)(2), we received a timely filed ministerial error allegation from respondent Eurodif S.A., Compagnie Générale Des Matières Nucléaires, S.A. and COGEMA, Inc. (collectively, COGEMA/Eurodif). On August 9, 2004, we received rebuttal comments from the petitioners.¹ Based on our analysis of parties' comments, the Department has revised the antidumping duty margin for COGEMA/Eurodif. Accordingly, we are amending our final results.

¹ The petitoners in this case are USEC Inc. and United States Enrichment Corporation.

EFFECTIVE DATE: September 29, 2004.

FOR FURTHER INFORMATION CONTACT: Constance Handley or James Kemp, at (202) 482-0631 or (202) 482-5346, respectively; AD/CVD Enforcement, Office 1, Import Administration, International Trade Administration, U.S. Department of Commerce, 14th Street & Constitution Avenue, NW., Washington, DC 20230.

SUPPLEMENTARY INFORMATION:

Scope of the Order

The product covered by this order is all low enriched uranium (LEU). LEU is enriched uranium hexafluoride (UF6) with a U²³⁵ product assay of less than 20 percent that has not been converted into another chemical form, such as UO2, or fabricated into nuclear fuel assemblies, regardless of the means by which the LEU is produced (including LEU produced through the down-blending of highly enriched uranium).

Certain merchandise is outside the scope of this order. Specifically, this order does not cover enriched uranium hexafluoride with a U²³⁵ assay of 20 percent or greater, also known as highly enriched uranium. In addition, fabricated LEU is not covered by the scope of this order. For purposes of this order, fabricated uranium is defined as enriched uranium dioxide (UO2), whether or not contained in nuclear fuel rods or assemblies. Natural uranium concentrates (U3O8) with a U²³⁵ concentration of no greater than 0.711 percent and natural uranium concentrates converted into uranium hexafluoride with a U²³⁵ concentration of no greater than 0.711 percent are not covered by the scope of this order.

Also excluded from this order is LEU owned by a foreign utility end-user and imported into the United States by or for such end-user solely for purposes of conversion by a U.S. fabricator into uranium dioxide (UO2) and/or fabrication into fuel assemblies so long as the uranium dioxide and/or fuel assemblies deemed to incorporate such imported LEU (i) remain in the possession and control of the U.S. fabricator, the foreign end-user, or their designed transporter(s) while in U.S. customs territory, and (ii) are re-exported within eighteen (18) months of entry of the LEU for consumption by the end-user in a nuclear reactor outside the United States. Such entries must be accompanied by the certifications of the importer and end-user.

The merchandise subject to this order is currently classifiable in the Harmonized Tariff Schedule of the United States (HTSUS) at subheading 2844.20.0020. Subject merchandise may also enter under 2844.20.0030, 2844.20.0050, and 2844.40.00. Although the HTSUS subheadings are provided for convenience and customs purposes, the written description of the merchandise is dispositive.

Amended Final Results of Review

On August 2, 2004, COGEMA/Eurodif timely filed, pursuant to 19 CFR 351.224(c)(2), an allegation that the Department made one ministerial error in its final results, in that the constructed value (CV) profit rate was applied to an adjusted cost of production, although the financial statements from which the CV profit rate was derived had not been similarly adjusted. In their August 9, 2004, rebuttal, the petitioners contend the error was not ministerial because the Department's analysis memorandum lacked specificity in that it did not define which adjustments the Department intended to make when calculating CV profit. We agree with COGEMA/Eurodif that its allegation constitutes a ministerial error. For a detailed discussion of this ministerial error, as well as the Department's analysis, see Memorandum from Constance Handley, Program Manager, Office 1 to Jeffrey A. May, Deputy Assistant Secretary re: Ministerial Error Allegation, dated September 21, 2004.

In accordance with 19 CFR 351.224(e), we have amended the final results of the first antidumping duty administrative review of LEU from France, as noted above. As a result of this correction and as stated below, COGEMA/Eurodif's weighted-average margin decreased from 5.43 percent to 4.56 percent.

Producer | Weighted-average margin (percentage)
COGEMA/Eurodif | 4.56

The Department shall determine and U.S. Customs and Border Protection (CBP) shall assess antidumping duties on all appropriate entries. In accordance with 19 CFR 351.212(b)(1), we will calculate an importer-specific ad valorem assessment rate for merchandise based on the ratio of the total amount of antidumping duties calculated for the examined sales made during the period of review to the total customs value of the sales used to calculate those duties. Where the importer-specific assessment rate is above de minimis, we will instruct CBP to assess duties on all appropriate entries of subject merchandise by that importer. This rate will be assessed uniformly on all entries of that particular importer made during the period July 13, 2001, through January 31, 2003. The Department will issue appropriate assessment instructions directly to CBP within 15 days of publication of the final results of review. The amended cash deposit requirement is effective for all shipments of subject merchandise manufactured by COGEMA/Eurodif entered, or withdrawn from warehouse, for consumption on or after the date of publication of this notice and shall remain in effect until publication of the final results of the next administrative review.

These amended final results are issued and published in accordance with section 751(h) of the Tariff Act and 19 CFR 351.224.

Jeffrey A. May,
Acting Assistant Secretary for Import Administration.

[FR Doc. E4-2404 Filed 9-28-04; 8:45 am]

BILLING CODE 3510-DS-P